DEPARTMENT OF LABOR

Employment and Training Administration

[TA-W-40,548]

BP Exploration Alaska, Inc. Prudhoe Bay, AK; Notice of Revised Determination on Reconsideration

By letter of May 30, 2002, the company requested administrative reconsideration regarding the Department's Negative Determination Regarding Eligibility to Apply for Worker Adjustment Assistance applicable to the workers of the subject firm.

The initial investigation resulted in a negative determination issued on April 25, 2002, based on the finding that the workers of BP Exploration Alaska, Inc., Prudhoe Bay, Alaska did not produce an article within the meaning of section 222(3) of the Act, as amended. The denial notice was published in the Federal Register on May 2, 2002 (67 FR 22112).

To support the request for reconsideration, the company indicated that the workers were primarily engaged in the production of crude oil. They supplied additional information to help clarify the functions performed at the Prudhoe Bay location. They provided copies of job descriptions.

Based on data supplied by the company in their request for reconsideration and further clarification by the company, it is evident that the workers are primarily engaged in activities related to the production of crude oil.

Layoffs at the subject firm occurred from August 2001 through the April 2002 period. Further layoffs are scheduled throughout the remainder of 2002 into early 2003. Production at the subject facility declined in 2001 over the corresponding 2000 period.

A survey of the firm's major declining customer(s) was conducted regarding their purchases of crude oil during the relevant period. The survey revealed that a major customer increased their purchases of imported crude oil, while decreasing their purchases from the subject firm during the relevant period.

Also, aggregate U.S. imports of crude oil increased from 2000 to 2001. The U.S. import to U.S. production ratio of crude oil was over 150 percent during the 2001 period.

Conclusion

After careful review of the additional facts obtained on reconsideration, I conclude that increased imports of articles like or directly competitive with those produced at BP Exploration Alaska, Inc., Prudhoe Bay, Alaska, contributed importantly to the declines in sales or production and to the total or partial separation of workers at the subject firm. In accordance with the provisions of the Act, I make the following certification:

All workers of BP Exploration Alaska, Inc., Prudhoe Bay, Alaska, who became totally or partially separated from employment on or after December 27, 2000 through two years from the date of this certification, are eligible to apply for adjustment assistance under Section 223 of the Trade Act of 1974.

Signed in Washington, DC this 25th day of July 2002.
Edward A. Tomchick,
Director, Division of Trade Adjustment Assistance.

[FR Doc. 02-19952 Filed 8-6-02; 8:45 am]

BILLING CODE 4510-30-P